FEDERAL RETIREMENT THRIFT INVESTMENT BOARD

Sunshine Act Meeting

Time and Date: 10 a.m. (EST), January 22, 2002.

Place: 4th Floor, Conference Room 4506, 1250 H Street, NW., Washington, DC.

Status: Open.

Matters to be Considered:

1. Approval of the minutes of the December 10, 2001, Board member meeting.

2. Thrift Savings Plan activity report by the Executive Director.

3. Review of KPMG LLP audit report: Executive Summary of the Fiduciary Oversight Program for the Thrift Savings Plan as of September 30, 2001.

Contact Person For More Information: Thomas J. Trabucco, Director, Office of External Affairs, (202) 942-1640.

Dated: January 8, 2002.
Elizabeth S. Woodruff,
Secretary to the Board, Federal Retirement Thrift Investment Board.

[FR Doc. 02-793 Filed 1-8-02; 3:23 pm]

BILLING CODE 6760-01-M